DEPARTMENT OF AGRICULTURE

Foreign Agricultural Service

WTO Agricultural Safeguard Trigger Levels

AGENCY: Foreign Agricultural Service, USDA.

ACTION: Notice of product coverage and trigger levels for safeguard measures provided for in the World Trade Organization (WTO) Agreement on Agriculture.

SUMMARY: This notice lists the updated quantity trigger levels for products which may be subject to additional import duties under the safeguard provisions of the WTO Agreement on Agriculture. This notice also includes the relevant period applicable for the trigger levels on each of the listed products.

DATES: Effective Date: May 13, 2009.

FOR FURTHER INFORMATION CONTACT: Lana Bennett, Import Policies and Export Reporting Division, Foreign Agricultural Service, U.S. Department of Agriculture, Stop 1021, 1400 Independence Avenue, SW., Washington, DC 20250-1021, telephone at (202) 720-0638, or e-mail itspd@fas.usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated the duty to the Administrator of the Foreign Agricultural Service (7 CFR 2.43 (a)(2) (2007)). The Annex to this notice contains the updated quantity trigger levels.

Additional information on the products subject to safeguards and the additional duties which may apply can be found in subchapter IV of Chapter 99 of the Harmonized Tariff Schedule of the United States (2007) and in the Secretary of Agriculture's Notice of Uruguay Round Agricultural Safeguard Trigger Levels, published in the Federal Register at 60 FR 427 (Jan. 4, 1995).

Notice: As provided in section 405 of the Uruguay Round Agreements Act, consistent with Article 5 of the Agreement on Agriculture, the safeguard quantity trigger levels previously notified are superceded by the levels indicated in the Annex to this notice. The definitions of these products were provided in the Notice of Uruguay Round Agricultural Safeguard Trigger Levels, published in the Federal Register, at 60 FR 427 (Jan. 4, 1995).

Issued at Washington, DC, this 29th day of April 2009.
Patricial R. Sheikh,
Acting Administrator, Foreign Agricultural Service.

ANNEX

Quantity-Based Safeguard Trigger
Product | Trigger level | Period
Beef | 317,662 mt | January 1, 2009 to December 31, 2009.
Mutton | 6,808 mt | January 1, 2009 to December 31, 2009.
Cream | 1,125,550 liters | January 1, 2009 to December 31, 2009.
Evaporated or Condensed Milk | 5,234,255 kilograms | January 1, 2009 to December 31, 2009.
Nonfat Dry Milk | 219,775 kilograms | January 1, 2009 to December 31, 2009.
Dried Whole Milk | 2,239,115 kilograms | January 1, 2009 to December 31, 2009.
Dried Cream | 29,393 kilograms | January 1, 2009 to December 31, 2009.
Dried Whey/Buttermilk | 19,998 kilograms | January 1, 2009 to December 31, 2009.
Butter | 7,514,294 kilograms | January 1, 2009 to December 31, 2009.
Butter Oil and Butter Substitutes | 6,541,513 kilograms | January 1, 2009 to December 31, 2009.
Dairy Mixtures | 52,092,707 kilograms | January 1, 2009 to December 31, 2009.
Blue Cheese | 5,229,457 kilograms | January 1, 2009 to December 31, 2009.
Cheddar Cheese | 12,279,311 kilograms | January 1, 2009 to December 31, 2009.
American-Type Cheese | 8,841,320 kilograms | January 1, 2009 to December 31, 2009.
Edam/Gouda Cheese | 8,013,001 kilograms | January 1, 2009 to December 31, 2009.
Italian-Type Cheese | 23,312,030 kilograms | January 1, 2009 to December 31, 2009.
Swiss Cheese with Eye Formation | 30,506,943 kilograms | January 1, 2009 to December 31, 2009.
Gruyere Process Cheese | 5,517,302 kilograms | January 1, 2009 to December 31, 2009.
Lowfat Cheese | 956,596 kilograms | January 1, 2009 to December 31, 2009.
NSPF Cheese | 50,252,329 kilograms | January 1, 2009 to December 31, 2009.
Peanuts | 12,096 mt | April 1, 2008 to March 31, 2009.
| 15,172 mt | April 1, 2009 to March 31, 2010.
Peanut Butter/Paste | 4,183 mt | January 1, 2009 to December 31, 2009.
Raw Cane Sugar | 1,462,968 mt | October 1, 2008 to September 30, 2009.
| 1,407,556 mt | October 1, 2009 to September 30, 2010.
Refined Sugar and Syrups | 175,217 mt | October 1, 2008 to September 30, 2009.
| 191,180 mt | October 1, 2009 to September 30, 2010.
Blended Syrups | 72 mt | October 1, 2008 to September 30, 2009.
| 107 mt | October 1, 2009 to September 30, 2010.
Articles Over 65% Sugar | 669 mt | October 1, 2008 to September 30, 2009.
| 578 mt | October 1, 2009 to September 30, 2010.
Articles Over 10% Sugar | 16,759 mt | October 1, 2008 to September 30, 2009.
| 15,617 mt | October 1, 2009 to September 30, 2010.
Sweetened Cocoa Powder | 1,329 mt | October 1, 2008 to September 30, 2009.
| 1,249 mt | October 1, 2009 to September 30, 2010.
Chocolate Crumb | 9,296,789 kilograms | January 1, 2009 to December 31, 2009.
Lowfat Chocolate Crumb | 229,577 kilograms | January 1, 2009 to December 31, 2009.
Infant Formula Containing Oligosaccharides | 9,173 kilograms | January 1, 2009 to December 31, 2009.
Mixes and Doughs | 243 mt | October 1, 2008 to September 30, 2009.
| 315 mt | October 1, 2009 to September 30, 2010.
Mixed Condiments and Seasonings | 128 mt | October 1, 2008 to September 30, 2009.
| 176 mt | October 1, 2009 to September 30, 2010.
Ice Cream | 2,810,259 liters | January 1, 2009 to December 31, 2009.
Animal Feed Containing Milk | 23,363 kilograms | January 1, 2009 to December 31, 2009.
Short Staple Cotton | 669,917 kilograms | September 20, 2008 to September 19, 2009.
| 699,482 kilograms | September 20, 2009 to September 19, 2010.
Harsh or Rough Cotton | 0 kilograms | August 1, 2008 to July 31, 2009.
| 0 kilograms | August 1, 2009 to July 31, 2010.
Medium Staple Cotton | 1,723,796 kilograms | August 1, 2008 to July 31, 2009.
| 688,341 kilograms | August 1, 2009 to July 31, 2010.
Extra Long Staple Cotton | 4,416,936 kilograms | August 1, 2008 to July 31, 2009.
| 3,656,233 kilograms | August 1, 2009 to July 31, 2010.
Cotton Waste | 70,768 kilograms | September 20, 2008 to September 19, 2009.
| 395,745 kilograms | September 20, 2009 to September 19, 2010.
Cotton, Processed, Not Spun | 10,205 kilograms | September 11, 2008 to September 10, 2009.
| 3,995 kilograms | September 11, 2009 to September 10, 2010.

.

[FR Doc. E9-11108 Filed 5-12-09; 8:45 am]

BILLING CODE 3410-10-P